DEPARTMENT OF AGRICULTURE

Rural Utilities Service

PowerSouth Energy Cooperative; Notice of Finding of No Significant Impact

AGENCY: Rural Utilities Service, USDA.

ACTION: Notice of finding of no significant impact.

SUMMARY: Notice is hereby given that the Rural Utilities Service (RUS), an agency delivering the United States Department of Agriculture (USDA) Rural Development Utilities Programs, has made a Finding of No Significant Impact (FONSI) with respect to a request from PowerSouth Electric Cooperative (PowerSouth) for assistance to finance the construction and operation of a new 360 megawatt peak-load natural gas-fired generation facility at PowerSouth's existing McIntosh Power Plant in Washington County, Alabama.

ADDRESSES: The FONSI is available for public review at USDA Rural Utilities Service, 1400 Independence Avenue, SW., Stop 1571, Washington, DC 20250-1571; and at PowerSouth's headquarters office located at 2027 East Three Notch Street, Andalusia, Alabama 36420. To obtain copies of the FONSI or for further information, contact Stephanie Strength, Environmental Protection Specialist, USDA, Rural Utilities Service, 1400 Independence Avenue, SW., Stop 1571, Washington, DC 20250-1571; Telephone: (202) 720-0468 or e-mail: stephanie.strength@wdc.usda.gov; or PowerSouth's headquarters office located at 2027 East Three Notch Street, Andalusia, Alabama 36420.

SUPPLEMENTARY INFORMATION: PowerSouth is proposing to construct a new 360 megawatt peak-load natural gas-fired generation facility at PowerSouth's existing McIntosh Power Plant with an in-service date of late 2010. The proposed project would consist of two 180 megawatt combustion turbine units operated by natural gas. Burns and McDonnell Engineering Company, Inc., an environmental consulting firm, has prepared an Environmental Analysis (EA) for RUS. Rural Utilities Service has conducted an independent evaluation of the EA and believes that it accurately assesses the impacts of the proposal and has determined that no significant impacts would result from the construction and operation of the proposal.

Any final action by RUS related to the proposed project will be subject to, and contingent upon, compliance with all relevant Federal environmental laws and regulations and completion of environmental review procedures as prescribed by the 7 CFR part 1794, Environmental Policies and Procedures.

Dated: May 29, 2009.
James R. Newby,
Acting Administrator, Electric Program, Rural Utilities Service.

[FR Doc. E9-13114 Filed 6-3-09; 8:45 am]

BILLING CODE 3410-15-P